DEPARTMENT OF COMMERCE

International Trade Administration

[A-570-983]

Drawn Stainless Steel Sinks From the People's Republic of China: Preliminary Results of the Antidumping Duty Administrative Review; 2012-2014

AGENCY: Enforcement and Compliance, International Trade Administration, Department of Commerce.

SUMMARY: The Department of Commerce (Department) is conducting an administrative review of the antidumping duty order on drawn stainless steel sinks (drawn sinks) from the People's Republic of China (PRC). The administrative review covers 11 exporters, of which the Department selected two as mandatory respondents for individual examination (i.e., Guangdong Dongyuan Kitchenware Industrial Co., Ltd. (Dongyuan) and Guangdong Yingao Kitchen Utensils Co., Ltd. (Yingao)). The period of review (POR) is October 4, 2012, through March 31, 2014.

The Department preliminarily finds that Dongyuan and Yingao both made sales of subject merchandise at less than normal value (NV) during the POR. If these preliminary results are adopted in the final results of this review, we will instruct U.S. Customs and Border Protection (CBP) to assess antidumping duties on all appropriate entries. Interested parties are invited to comment on these preliminary results.

DATES: Effective Date: May 7, 2015.

FOR FURTHER INFORMATION CONTACT: Brian C. Smith or Brandon Custard, AD/CVD Operations, Office II, Enforcement and Compliance, International Trade Administration, U.S. Department of Commerce, 1401 Constitution Avenue NW., Washington, DC 20230; telephone: (202) 482-1766 and (202) 482-1823, respectively.

SUPPLEMENTARY INFORMATION:

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.¹

¹ For a complete description of the Scope of the Order, see “Decision Memorandum for Preliminary Results of Antidumping Duty Administrative Review: Drawn Stainless Steel Sinks from the People's Republic of China” from Christian Marsh, Deputy Assistant Secretary for Antidumping and Countervailing Duty Operations, to Paul Piquado, Assistant Secretary for Enforcement and Compliance, dated April 30, 2015 (Preliminary Decision Memorandum), issued concurrently with and hereby adopted by this notice.

Methodology

The Department conducted this review in accordance with section 751(a)(2)(B) of the Tariff Act of 1930, as amended (the Act). Export prices have been calculated in accordance with section 772 of the Act. Because the PRC is a non-market economy (NME) within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov; the Preliminary Decision Memorandum is also available to all parties in the Central Records Unit, room 7046 of the main Department of Commerce building. In addition, a complete version of the Preliminary Decision Memorandum can be accessed directly on the Enforcement and Compliance's Web site at http://www.trade.gov/enforcement/. The signed Preliminary Decision Memorandum and the electronic version of the Preliminary Decision Memorandum are identical in content. A list of the topics discussed in the Preliminary Decision Memorandum is attached as the Appendix to this notice.

Preliminary Results of Review

Because Feidong Import & Export Co., Ltd., Shunde Native Produce Import & Export Co, Ltd. of Guangdong, and Zhongshan Silk Import & Export Group Co., Ltd. of Guangdong did not demonstrate they were entitled to a separate rate, the Department preliminarily finds these companies to be part of the PRC-wide entity.² The rate previously established for the PRC-wide entity is 76.53 percent.³

² See Preliminary Decision Memorandum. Pursuant to the Department's change in practice, the Department no longer considers the NME entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the NME entity will not be under review unless a party specifically requests, or the Department self-initiates, a review of the entity. Because no party requested a review of the entity, the entity is not under review and the entity's rate is not subject to change.

³ The PRC-wide rate determined in the investigation was 76.53 percent. See Drawn Stainless Steel Sinks from the People's Republic of China: Amended Final Determination of Sales at Less Than Fair Value and Antidumping Duty Order, 78 FR 21592 (April 11, 2013). This rate was adjusted for export subsidies and estimated domestic subsidy pass through to determine the cash deposit rate (76.45 percent) collected for companies in the PRC-wide entity. See explanation in Drawn Stainless Steel Sinks From the People's Republic of China: Investigation, Final Determination, 78 FR 13019 (February 26, 2013).

The Department preliminarily determines that the following weighted-average dumping margins exist for the period October 4, 2012, through March 31, 2014:

Exporters | Weighted- average dumping margin (percent)
Foshan Zhaoshun Trade Co., Ltd.* | 2.14
Guangdong Dongyuan Kitchenware Industrial Co., Ltd | 0.81
Guangdong New Shichu Import & Export Company Limited * | 2.14
Guangdong Yingao Kitchen Utensils Co., Ltd | 5.55
Yuyao Afa Kitchenware Co., Ltd.* | 2.14
Zhongshan Newecan Enterprise Development Corporation Limited * | 2.14
Zhongshan Superte Kitchenware Co., Ltd.* | 2.14
* This company demonstrated that it qualified for a separate rate in this administrative review. The rate for this company is the average of the weighted-average dumping margins assigned to Dongyuan and Yingao. See the Preliminary Decision Memorandum.

Disclosure and Public Comment

The Department intends to disclose to the parties the calculations performed for these preliminary results within five days of the date of publication of this notice in accordance with 19 CFR 351.224(b). Interested parties may submit case briefs no later than 30 days after the date of publication of these preliminary results of review.⁴ Rebuttals to case briefs may be filed no later than five days after the written comments are filed and all rebuttal comments must be limited to comments raised in the case briefs.⁵

⁴ See 19 CFR 351.309(c).

⁵ See 19 CFR 351.309(d).

Any interested party may request a hearing within 30 days of publication of this notice.⁶ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁷

⁶ See 19 CFR 351.310(c).

⁷ See 19 CFR 351.310(d).

Unless otherwise extended, the Department intends to issue the final results of this administrative review, which will include the results of its analysis of issues raised in the case briefs, within 120 days of publication of these preliminary results, pursuant to section 751(a)(3)(A) of the Act.

Assessment Rates

Upon issuance of the final results, the Department will determine, and CBP shall assess, antidumping duties on all appropriate entries covered by this review.⁸ The Department intends to issue appropriate assessment instructions to CBP 15 days after the publication of the final results of this review.

⁸ See 19 CFR 351.212(b)(1).

For each individually-examined respondent in this review (i.e., Dongyuan and Yingao) which has a weighted-average dumping margin which is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).⁹ Where either the respondent's weighted-average dumping margin is zero or de minimis, or an importer- (or customer-) specific assessment rate is zero or de minimis, we will instruct CBP to liquidate the appropriate entries without regard to antidumping duties.

⁹ In these preliminary results, the Department applied the assessment rate calculation method adopted in Antidumping Proceedings: Calculation of the Weighted-Average Dumping Margin and Assessment Rate in Certain Antidumping Proceedings: Final Modification, 77 FR 8101 (February 14, 2012).

For the respondents which were not selected for individual examination in this administrative review and which qualified for a separate rate, the assessment rate will be equal to the average of the weighted-average dumping margins assigned to Dongyuan and Yingao in the final results of this review.

For the final results, if we continue to treat the three companies identified above as part of the PRC-wide entity, we will instruct CBP to apply an ad valorem assessment rate of 76.45 percent to all entries of subject merchandise during the POR which were produced and/or exported by those companies.

The Department announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹⁰

¹⁰ For a full discussion of this practice, see Non-Market Economy Antidumping Proceedings: Assessment of Antidumping Duties, 76 FR 65694 (October 24, 2011) (NME Antidumping Proceedings).

Cash Deposit Requirements

The following cash deposit requirements will be effective upon publication of the final results of this administrative review for all shipments of the subject merchandise from the PRC entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed PRC and non-PRC exporters that received a separate rate in a prior segment of this proceeding, the cash deposit rate will continue to be the existing exporter-specific rate; (3) for all PRC exporters of subject merchandise that have not been found to be entitled to a separate rate, the cash deposit rate will be the rate for the PRC-wide entity, which is 76.45 percent; and (4) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results of reviews in accordance with sections 751(a)(l) and 777(i)(l) of the Act.

Dated: April 30, 2015.
Paul Piquado,
Assistant Secretary for Enforcement and Compliance.

Appendix—List of Topics Discussed in the Preliminary Decision Memorandum

I. Summary

II. Background

III. Scope of the Order

IV. Discussion of the Methodology

A. Non-Market Economy Country

B. Separate Rates Determination

C. The PRC-Wide Entity

D. Surrogate Country

1. Economic Comparability

2. Significant Producer of Comparable Merchandise

3. Data Availability

E. Date of Sale

F. Fair Value Comparisons

1. Determination of Comparison Method

2. Export Price

3. Value-Added Tax

4. Normal Value

G. Factor Valuation Methodology

H. Adjustment Under Section 777A(f) of the Act

I. Currency Conversion

V. Conclusion

[FR Doc. 2015-11083 Filed 5-6-15; 8:45 am]

BILLING CODE 3510-DS-P